ENVIRONMENTAL PROTECTION AGENCY

40 CFR Part 52

[IN141-1b; FRL-7273-6]

Approval and Promulgation of Implementation Plans; Indiana; Volatile Organic Compound Regulations

AGENCY: Environmental Protection Agency (EPA).

ACTION: Proposed rule.

SUMMARY: The EPA is proposing to approve, through a direct final procedure, a revision to the Indiana State Implementation Plan (SIP) to add Volatile Organic Compound (VOC) capture efficiency testing procedures to the existing VOC emission control regulations. The Indiana Department of Environmental Management (IDEM) submitted the adopted rule revision as a requested SIP revision on August 8, 2001. Control system capture efficiency requirements are components of several State VOC control rules, particularly the rules covering the control of VOC emissions from coating and graphic arts sources. The existing State VOC rules specify minimum capture efficiencies for some source categories, and some sources may seek VOC emission reduction credits through increases in capture efficiency.

In a separate action in the “Rules and Regulations” section of this Federal Register, EPA is approving the State's capture efficiency testing rule revision to the SIP through a direct final rule without prior proposal because EPA views this action as noncontroversial and anticipates no adverse comments. The rationale for approval is set forth in the preamble to the direct final rule. If EPA receives no written adverse comments, EPA will take no further action on this proposed rule. If EPA receives meaningful written adverse comment, we will publish a timely withdrawal of the direct final rule in the Federal Register and inform the public that the rule will not take effect. In that event, EPA will address all relevant public comments in a subsequent final rule based on this proposed rule. In either event, EPA will not institute a second comment period on this action. Any parties interested in commenting must do so at this time.

DATES: Comments on this action must be received by October 11, 2002.

ADDRESSES: Written comments should be sent to: J. Elmer Bortzer, Chief, Regulation Development Section, Air Programs Branch (AR-18J), Environmental Protection Agency, Region 5, 77 West Jackson Boulevard, Chicago, Illinois 60604.

Copies of the documents relevant to this action are available for public inspection during normal business hours at the Environmental Protection Agency, Region 5, Air and Radiation Division, 77 West Jackson Boulevard, Chicago, Illinois 60604. Please telephone Edward Doty at (312) 886-6057 before visiting the Region 5 office.

FOR FURTHER INFORMATION CONTACT: Edward Doty, Environmental Scientist, Regulation Development Section, Air Programs Branch (AR-18J), U.S. Environmental Protection Agency, Region 5, 77 West Jackson Boulevard, Chicago, Illinois 60604. Telephone: (312) 886-6057. E-mail address: doty.edward@epa.gov.

Authority: 42 U.S.C. 4201-7601q.

Dated: August 23, 2002.
Gary Gulezian,
Acting Regional Administrator, Region 5.

[FR Doc. 02-22980 Filed 9-10-02; 8:45 am]

BILLING CODE 6560-50-P